UNITED STATES INSTITUTE OF PEACE

Notice Regarding Board of Directors Meetings

AGENCY: United States Institute of Peace (USIP) and Endowment of the United States Institute of Peace.

ACTION: Announcement of meeting; notification of change.

SUMMARY: USIP announces the next meeting of the Board of Directors. USIP also announces a change in the method of public notification regarding future meetings of the Board of Directors. Announcements of future meetings of the Board of Directors will no longer be published in the Federal Register. Instead, USIP will post notice of meetings of the Board of Directors on the USIP website.

DATES: Friday, October 21, 2022 (9 a.m.-12:30 p.m.). The next meeting of the Board of Directors will be held January 27, 2023. The change regarding the method by which USIP provides reasonable public notice of future meetings of the Board of Directors is effective immediately.

ADDRESSES: Virtual Board Meeting Information: Join by video: https://usip-org.zoomgov.com/j/1614796205?pwd=STRzOG9JK3M3MTFkQnRMUUhlV3RFZz09; Meeting ID: 161 479 6205; Passcode: 986942.

FOR FURTHER INFORMATION CONTACT: Megan O'Hare, 202-429-4144, mohare@usip.org.

SUPPLEMENTARY INFORMATION: Open Session—Portions may be closed pursuant to subsection (c) of section 552b of title 5, United States Code, as provided in subsection 1706(h)(3) of the United States Institute of Peace Act, Public Law 98-525 (USIP Act).

The USIP Act at subsection 1706(h)(3) (22 U.S.C. 4605(h)(3)) states that all meetings of the Board of Directors shall be open to public observation. Subsection 1706(h)(3) states that notice in the Federal Register shall be deemed to be reasonable public notice, but neither the USIP Act nor any other provision of law precludes USIP from adopting another method of public notice. Accordingly, USIP has the discretion to alter the method by which USIP provides reasonable public notice. In light of the cost of publishing notices in the Federal Register and widespread access to the internet, USIP will provide notice of all future meetings of the Board of Directors on USIP's website.

(Authority: 22 U.S.C. 4605(h)(3))

Dated: October 14, 2022.
Rebecca Fernandes,
Director of Accounting.

[FR Doc. 2022-22751 Filed 10-19-22; 8:45 am]

BILLING CODE 2810-03-P